FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/Address | Date reissued
16338N | Brisk International Express, Inc., 8542 NW. 66th Street, Miami, FL 33166 | April 13, 2003.
16529N | Newmark Shipping Ltd. dba R S Freight Inc. dba R S F Inc., 4455 Torrance Blvd., Suite 848, Torrance, CA 90503 | May 1, 2003.
16731N | Providence Services, Inc., 8565 NW 68 Street, Miami, FL 33166 | April 25, 2003.

Dated: May 30, 2003.
Sandra L. Kusumoto,
Director, Bureau of Consumer Complaints and Licensing.

[FR Doc. 03-14050 Filed 6-3-03; 8:45 am]

BILLING CODE 6730-01-P